DEPARTMENT OF ENERGY

Federal Energy Regulatory Commission

Combined Notice of Filings

Take notice that the Commission has received the following Natural Gas Pipeline Rate and Refund Report filings:

Filings Instituting Proceedings

Docket Numbers: RP11-2607-000.

Applicants: CenterPoint Energy—Mississippi River Transmission, LLC.

Description: CenterPoint Energy—Mississippi River Transmission, LLC's Penalty Revenue Crediting Filing.

Filed Date: 09/28/2011.

Accession Number: 20110928-5088.

Comment Date: 5 p.m. Eastern Time on Tuesday, October 11, 2011.

Docket Numbers: RP11-2608-000.

Applicants: Rager Mountain Storage Company LLC.

Description: Rager Mountain Storage Company LLC submits tariff filing per 154.203: Rager Mountain Storage Company LLC FERC Gas Tariff Volume No. 1 to be effective 11/1/2011.

Filed Date: 09/28/2011.

Accession Number: 20110928-5122.

Comment Date: 5 p.m. Eastern Time on Tuesday, October 11, 2011.

Docket Numbers: RP11-2609-000.

Applicants: Transcontinental Gas Pipe Line Company, LLC.

Description: Transcontinental Gas Pipe Line Company, LLC submits tariff filing per 154.203: Compliance Filing—Commission Order in Docket Nos. RP10-608 and RP10-613, to be effective 10/29/2011.

Filed Date: 09/28/2011.

Accession Number: 20110928-5124.

Comment Date: 5 p.m. Eastern Time on Tuesday, October 11, 2011.

Docket Numbers: RP11-2610-000.

Applicants: East Cheyenne Gas Storage, LLC.

Description: East Cheyenne Gas Storage, LLC submits tariff filing per 154.602: ECGS cancellation, to be effective 12/31/9998.

Filed Date: 09/28/2011.

Accession Number: 20110928-5136.

Comment Date: 5 p.m. Eastern Time on Tuesday, October 11, 2011.

Docket Numbers: RP11-2611-000.

Applicants: Southern Star Central Gas Pipeline, Inc.

Description: Southern Star Central Gas Pipeline, Inc. submits tariff filing per 154.204: Scheduling Priorities—Restore Pre-10/1/11 Language (Related to RP11-2135) to be effective 10/1/2011.

Filed Date: 09/29/2011.

Accession Number: 20110929-5021.

Comment Date: 5 p.m. Eastern Time on Tuesday, October 11, 2011.

Docket Numbers: RP11-2612-000.

Applicants: Gulf Crossing Pipeline Company LLC.

Description: Gulf Crossing Pipeline Company LLC submits tariff filing per 154.204: Antero 2 to Tenaska 209 Capacity Release Negotiated Rate Agreement Filing to be effective 10/1/2011 under RP11-2612 Filing Type: 570.

Filed Date: 09/29/2011.

Accession Number: 20110929-5029.

Comment Date: 5 p.m. Eastern Time on Tuesday, October 11, 2011.

Docket Numbers: RP11-2613-000.

Applicants: Gulf Crossing Pipeline Company LLC.

Description: Gulf Crossing Pipeline Company LLC submits tariff filing per 154.204: Antero 3 to Tenaska 210 Capacity Release Negotiated Rate Agreement Filing to be effective 10/1/2011.

Filed Date: 09/29/2011.

Accession Number: 20110929-5030.

Comment Date: 5 p.m. Eastern Time on Tuesday, October 11, 2011.

Docket Numbers: RP11-2614-000.

Applicants: Gulf South Pipeline Company, LP.

Description: Gulf South Pipeline Company, LP submits tariff filing per 154.204: CenterPoint 34682-6 Amendment to Negotiated Rate Agreement to be effective 10/1/2011.

Filed Date: 09/29/2011.

Accession Number: 20110929-5031.

Comment Date: 5 p.m. Eastern Time on Tuesday, October 11, 2011.

Docket Numbers: RP11-2615-000.

Applicants: Gulf South Pipeline Company, LP.

Description: Gulf South Pipeline Company, LP submits tariff filing per 154.204: HK 37367 to Sequent 39121 Capacity Release Negotiated Rate Agreement Filing to be effective 9/29/2011.

Filed Date: 09/29/2011.

Accession Number: 20110929-5032.

Comment Date: 5 p.m. Eastern Time on Tuesday, October 11, 2011.

Docket Numbers: RP11-2616-000.

Applicants: Williston Basin Interstate Pipeline Company.

Description: Williston Basin Interstate Pipeline Company submits tariff filing per 154.204: Non-Conforming Negotiated Rate Agreements—Bear Paw to be effective 10/1/2011.

Filed Date: 09/29/2011.

Accession Number: 20110929-5033.

Comment Date: 5 p.m. Eastern Time on Tuesday, October 11, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 29, 2011.
Nathaniel J. Davis, Sr.,
Deputy Secretary.

[FR Doc. 2011-26077 Filed 10-7-11; 8:45 am]

BILLING CODE 6717-01-P